DEPARTMENT OF THE TREASURY

United States Mint

Notification of Citizens Coinage Advisory Committee February 15, 2022, Public Meeting

ACTION: Notice of meeting.

Pursuant to United States Code, Title 31, section 5135(b)(8)(C), the United States Mint announces the Citizens Coinage Advisory Committee (CCAC) public teleconference meeting scheduled for February 15, 2022.

Date: February 15, 2022.

Time: 1:00 p.m. (EST).

Location: This meeting will occur via teleconference. Interested members of the public may dial in to listen to the meeting at (888) 330-1716; Access Code: 1137147.

Subject: Review and discussion of obverse and reverse candidate designs for the 2023 American Liberty High Relief 24k Gold Coin and Silver Medal.

Interested persons should call the CCAC HOTLINE at (202) 354-7502 for the latest update on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

For members of the public interested in listening in to the provided call number, this is a reminder that the public attendance is for listening purposes only. Any member of the public interested in submitting matters for the CCAC's consideration is invited to submit them by email to info@ccac.gov.

For Accommodation Request: If you need an accommodation to listen to the CCAC meeting, please contact the Diversity Management and Civil Rights Office by February 8, 2022, at 202-354-7260 or 1-888-646-8369 (TYY).

FOR FURTHER INFORMATION CONTACT: Jennifer Warren, United States Mint Liaison to the CCAC; 801 9th Street NW, Washington, DC 20220; or call 202-354-7208.

(Authority: 31 U.S.C. 5135(b)(8)(C))

Eric Anderson,
Executive Secretary, United States Mint.

[FR Doc. 2022-01473 Filed 1-25-22; 8:45 am]

BILLING CODE P